DEPARTMENT OF THE TREASURY

Agency Information Collection Activities; Submission for OMB Review; Comment Request; Multiple Bureau of the Fiscal Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before December 1, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: Regulations Governing U.S. Treasury Securities—State and Local Government Series.

OMB Control Number: 1530-0044.

Type of Request: Extension without change of a currently approved collection.

Description: The regulations govern U.S. Treasury bonds, notes and certificates of indebtedness of the States and Local Government Series. The collection of information is necessary to enable Treasury to establish an investor's account, to issue securities, to ensure that an investor meets the certification requirements, to redeem securities either at or prior to maturity, and to obtain necessary documentation where a waiver is involved.

Form: None.

Affected Public: State or Local or Governments.

Estimated Number of Respondents: 127.

Frequency of Response: On occasion.

Estimated Total Number of Annual Responses: 127.

Estimated Time per Response: 13 minutes.

Estimated Total Annual Burden Hours: 28 Hours.

2. Title: Request for Payment of Reissue of U.S. Savings Bonds Deposited in Safekeeping.

OMB Control Number: 1530-0024.

Type of Request: Extension without change of a currently approved collection.

Description: The information is necessary to request payment or reissue of Savings Bonds/Notes held in safekeeping when original safekeeping custody receipts are not available. The information on the form is used by the Department of the Treasury, Bureau of the Fiscal Service, to identify the securities involved, establish entitlement, and to obtain a certified request for payment or reissue.

Form: FS Form 4239.

Affected Public: Individual or Households.

Estimated Number of Respondents: 1,260.

Frequency of Response: On occasion.

Estimated Total Number of Annual Responses: 1,260.

Estimated Time per Response: 10 minutes.

Estimated Total Annual Burden Hours: 210 hours

3. Title: Application for disposition of Retirement Plan/Individual Retirement Bonds Without Admin. of Deceased Owners Estate.

OMB Control Number: 1530-0032.

Type of Request: Extension without change of a currently approved collection.

Description: The information is used to support a request for recognition as a person entitled to United States Retirement Plan and/or Individual Retirement bonds which belonged to a deceased owner when a legal representative has not been appointed for the estate and no such appointment is pending.

Form: FS Form 3565.

Affected Public: Individuals or Households.

Estimated Number of Respondents: 315.

Frequency of Response: On occasion.

Estimated Total Number of Annual Responses: 315.

Estimated Time per Response: 20 minutes.

Estimated Total Annual Burden Hours: 105.

4. Title: Claim for Relief on Account of the Non-receipt of United States Savings Bonds.

OMB Control Number: 1530-0048.

Type of Request: Extension without change of a currently approved collection.

Description: Application by owner to request a substitute savings bond or payment in lieu of bond not received.

Form: FS Form 3062-4.

Affected Public: Individuals or Households

Estimated Number of Respondents: 900.

Frequency of Response: On occasion.

Estimated Total Number of Annual Responses: 900.

Estimated Time per Response: 10 minutes.

Estimated Total Annual Burden Hours: 150.

Authority: 44 U.S.C. 3501 et seq.

Spencer W. Clark,
Treasury PRA Clearance Officer.

[FR Doc. 2025-19741 Filed 10-30-25; 8:45 am]

BILLING CODE 4810-AS-P